ENVIRONMENTAL PROTECTION AGENCY

[EPA-HQ-OPPT-2007-0148; FRL-8120-8]

Commodity-Grade Mercury: Notice of Stakeholder Panel Process, Notice of Public Meeting, and Solicitation of Public Comment

AGENCY: Environmental Protection Agency (EPA).

ACTION: Notice.

SUMMARY: The Environmental Protection Agency, in conjunction with other Federal agencies and offices, is announcing a stakeholder panel process to provide approaches for management of non-Federal supplies of commodity-grade mercury. The need for management arises from concern that some mercury supplies may ultimately be released into the environment, resulting in human exposure with the potential to cause adverse health effects. A stakeholder panel will hold a series of meetings with the kickoff meeting in Washington, DC on May 8, 2007. EPA invites the public to submit written comments to the EPA on the issues the stakeholder panel will address. Stakeholder panel meetings will be open to the public and there will be opportunity for public comment at each meeting. Information on the public meetings will be available at http://www.epa.gov/mercury/roadmap.htm.

DATES: Meeting: The first meeting will be held on May 8, 2007, from 9 a.m. to 5 p.m., in Washington, DC. Dates of future meetings will be announced on http://www.epa.gov/mercury/roadmap.htm.

Participation: Requests to participate in the meeting must be received on or before April 12, 2007. See also Unit IV. of the SUPPLEMENTARY INFORMATION.

Special Accommodations: To request accommodation of a disability, please contact the technical person listed under FOR FURTHER INFORMATION CONTACT, preferably at least 10 days prior to the meeting, to give EPA as much time as possible to process your request.

Comments: Comments must be received on or before September 30, 2007.

ADDRESSES: Meeting: The first meeting will be held at Marriott Learning Complex, Ronald Reagan Building and International Trade Center, 1300 Pennsylvania Ave., NW. (Federal Triangle), Washington, DC.

Participation: Requests to participate in the meeting must be sent to the technical person listed under FOR FURTHER INFORMATION CONTACT. See also Unit IV. of the SUPPLEMENTARY INFORMATION.

Comments: Submit your comments, identified by docket identification (ID) number EPA-HQ-OPPT-2007-0148, by one of the following methods:

• Federal eRulemaking Portal: http://www.regulations.gov. Follow the on-line instructions for submitting comments.

• Mail: Document Control Office (7407M), Office of Pollution Prevention and Toxics (OPPT), Environmental Protection Agency, 1200 Pennsylvania Ave., NW., Washington, DC 20460-0001.

• Hand Delivery: OPPT Document Control Office (DCO), EPA East Bldg., Rm. 6428, 1201 Constitution Ave., NW., Washington, DC. Attention: Docket ID Number EPA-HQ-OPPT-2007-0148. The DCO is open from 8 a.m. to 4 p.m., Monday through Friday, excluding legal holidays. The telephone number for the DCO is (202) 564-8930. Such deliveries are only accepted during the DCO’s normal hours of operation, and special arrangements should be made for deliveries of boxed information.

Instructions: Direct your comments to docket ID number EPA-HQ-OPPT-2007-0148. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA’s public docket, visit the EPA Docket Center homepage at http://www.epa.gov/epahome/dockets.htm.

Docket: All documents in the docket are listed in the docket index available in regulations.gov. To access the electronic docket, go to http://www.regulations.gov, select “Advanced Search,” then “Docket Search.” Insert the docket ID number where indicated and select the “Submit” button. Follow the instructions on the regulations.gov website to view the docket index or access available documents. Although listed in the index, some information is not publicly available, e.g., CBI or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding Federal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Joshua Novikoff, National Program Chemicals Division (7404T), Office of Pollution Prevention and Toxics, Environmental Protection Agency, 1200 Pennsylvania Ave., NW., Washington, DC 20460-0001; telephone number: (202) 566-0502; e-mail address: novikoff.joshua@epa.gov.

SUPPLEMENTARY INFORMATION

I. General Information

A. Does this Action Apply to Me?

You may be potentially affected by this action if your work involves commodity-grade mercury, mercury by-products, or mercury waste. Potentially affected entities may include, but are not limited to:

• Chlor-alkali manufacturers (NAICS code 325181), e.g. facilities that use mercury processes.

• Metals mining companies (NAICS code 2122), e.g. gold mines.

• Mercury recovery facilities (NAICS code 562920), i.e., facilities that recover elemental mercury from waste.

• Waste Treatment and Disposal (NAICS code 5622), e.g. treatment, storage, and disposal facilities that manage hazardous mercury waste.

• Public Administration (NAICS code 92), e.g. State and local agencies responsible for municipal waste.

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the technical person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency is asking you to respond to specific questions.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background

In EPA’s Roadmap for Mercury (July 2006), EPA committed to working with other Federal agencies to initiate a process with technical experts and interested parties to assess options for managing domestic elemental, commodity-grade mercury surpluses. In order to meet this commitment, a stakeholder process has been established to provide the Federal Government with input on a reasonable range of options and an assessment of these options. The options will apply to the commodity-grade mercury in the United States not held by the Federal Government.

The stakeholder panel process is supported by EPA and its Federal partners: Department of Commerce, Department of Defense, Department of Energy, Department of the Interior, Department of State, and the Executive Office of the President (Office of Management and Budget, Council on Environmental Quality, Office of Science and Technology Policy, and Office of the U.S. Trade Representative). The stakeholder panel will consist of a balanced mix of representatives from academia, industry (e.g., chlor-alkali, mining, mercury brokers), non-governmental organizations (NGOs), and States. Representatives from various Federal agencies will serve as technical advisors, and will provide background information and technical support to the stakeholder panel as needed. Composition of the stakeholder panel may vary somewhat by meeting, depending on which topics will be discussed. This notice is not a solicitation for stakeholder panel participants.

EPA anticipates that the stakeholder panel will meet on several occasions over a 6-month period. The meetings will be open to the public, with opportunities for the public to make oral comments to the stakeholder panel.

EPA will ask the stakeholder panel to consider two questions:

1. How should the various non-Federal stocks of commodity-grade mercury be managed both in the short term and the long term?

2. How do current and future supply and demand affect this determination for each of the various stocks?

For more information, see the EPA background paper, entitled Options for Managing U.S. Non-Federal Supplies of Commodity-Grade Mercury. To access the background paper, see ADDRESSES.

III. Issues for Public Comment

EPA invites the public to send written comments on the same two questions addressed to the stakeholder panel:

1. How should the various non-Federal stocks of commodity-grade mercury be managed both in the short term and the long term?

2. How do current and future supply and demand affect this determination for each of the various stocks?

EPA advises commenters to use the background paper as they prepare comments. The background paper is entitled Options for Managing U.S. Non-Federal Supplies of Commodity-Grade Mercury. To access the background paper, see ADDRESSES.

IV. How Can I Request to Participate in the Meeting?

Persons interested in attending the public meeting are encouraged to pre-register and state whether they intend to make an oral comment. Pre-registration assists in planning adequate seating and in securing access to the building. Oral comments should address the two questions in the charge to the stakeholder panel which are found in Unit II. To pre-register, provide your name, organization, telephone number, and the docket ID number EPA-HQ-OPPT-2007-0148 to the technical person listed under FOR FURTHER INFORMATION CONTACT. Pre-registration requests must be received on or before April 12, 2007. Do not submit any information in your pre-registration that is considered CBI.

Oral comments will be scheduled in the order the requests are received by EPA. EPA may need to limit the length of oral comments to allow for participation by all parties.

EPA requests that oral comments be included in the docket. Please follow the instructions under ADDRESSES.

List of Subjects

Environmental protection, Chemicals, Hazardous substances, Mercury.

Dated: March 22, 2007.
Wendy C. Hamnett,
Acting Assistant Administrator, Office of Prevention, Pesticides and Toxic Substances.

[FR Doc. E7-5813 Filed 3-28-07; 8:45 am]

BILLING CODE 6560-50-S